NUCLEAR REGULATORY COMMISSION

[Docket No. 50-298]

Cooper Nuclear Station; Notice of Consideration of Issuance of Amendment to Facility Operating License, Proposed No Significant Hazards Consideration Determination, and Opportunity for a Hearing

The U.S. Nuclear Regulatory Commission (the Commission) is considering issuance of an amendment to Facility Operating License No. DPR-46, issued to Nebraska Public Power District (the licensee), for operation of the Cooper Nuclear Station (CNS) located in Nemaha County, Nebraska.

The proposed amendment would revise the Technical Specifications (TSs) to support increase in reactor equipment cooling water temperature limits of service water (SW) and ultimate heat sink (UHS).

On May 20, 2002, the licensee submitted its application for change, and requested that the application be reviewed and approved by July 10, 2002. During telephone conversations with the licensee, the NRC staff explained that Federal Register notice requirements of 30 day comment period would push the earliest approval date to July 25, 2002. The licensee stated that anticipated low Missouri River (UHS for CNS) water flows and warm summer temperatures are likely to lead to the river water temperature to exceed the current UHS temperature limit of the TS, which would require a plant shutdown. Therefore, by a letter dated June 19, 2002, the licensee has asked that its application of May 20, 2002, be processed as an exigent request, pursuant to 10 CFR 50.91(a)(6), so as to avoid unnecessary shutdown of the CNS.

Before issuance of the proposed license amendment, the Commission will have made findings required by the Atomic Energy Act of 1954, as amended (the Act) and the Commission's regulations.

Pursuant to 10 CFR 50.91(a)(6) for amendments to be granted under exigent circumstances, the NRC staff must determine that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Do the proposed changes involve a significant increase in the probability or consequences of an accident previously evaluated?

No. The effects of the proposed increase in the SW and reactor equipment cooling [REC] temperatures on the likelihood of postulated accidents have been considered. These temperature parameters are not precursors or initiators of any analyzed Design Basis Events [DBEs]. Furthermore, there are no plant hardware changes or new operator actions associated with this proposed change that could serve to initiate a DBE. Accordingly, there is no increase in the probability of an accident previously evaluated.

The potential impact of the proposed increase in the SW and REC temperatures on the ability of the plant to mitigate postulated accidents has been analyzed. This includes analysis of the following fourteen (14) areas: (1) The ability of the containment to provide adequate long term (greater than 10 minutes) cooling following a design basis loss-of-coolant accident (LOCA); (2) the ability to safely shutdown the plant from outside the control room after a fire; (3) the ability of the plant to mitigate an Anticipated Transient Without Scram (ATWS) event; (4) the adequacy of the water source at the suction of the Emergency Core Cooling System (ECCS) pumps [i.e. the availability of adequate Net Positive Suction Head (NPSH)]; (5) the ability of the suppression pool to provide a source of water for the ECCS pumps without allowing ingestion of steam bubbles by the pumps; (6) small steam line break; (7) Diesel Generator cooling; (8) ability of SW to remove heat from REC and ability of REC to provide ECCS area cooling; (9) SW as a source of backup water to REC; (10) ability to meet requirements of environmental qualification of electrical equipment; (11) the adequacy of the water source (i.e. availability of adequate NPSH) at the suction of the SW and REC pumps; (12) impact on ECCS piping; (13) impact on the seals in the Residual Heat Removal and Core Spray pumps; and (14) common mode failure analysis on SW pump room maximum allowed temperature.

These analyses demonstrate that adequate cooling can be achieved and postulated accidents can be properly mitigated with the SW and REC systems at the proposed increased temperatures. In some analyzed accidents the proposed increased SW and REC temperature limits result in a minimal increase in the temperature of the suppression pool. However, the resulting temperature is less than the containment design temperature specified in the updated safety analysis report [USAR].

The calculated dose consequences reflected in the USAR do not utilize SW or REC temperature as inputs. Therefore, these dose consequences are not impacted by the increased SW and REC temperature limits.

Based on the above, Nebraska Public Power District [NPPD] concludes that the proposed increased temperature limits do not involve a significant increase in the probability or consequences of an accident or transient previously evaluated in the safety analysis report.

2. Do the proposed changes create the possibility for a new or different kind of accident from any accident previously evaluated?

No. The increased limits do not introduce any new mode of plant operation and will not result in a change to the design function of the operation of any structure, system, or component (SSC) that is used for mitigating accidents. The proposed increases in the temperature limits do not result in any credible new failure mechanisms, malfunctions, or accident initiators not considered in the design and licensing bases. An increase in the maximum allowable cooling water temperature does not introduce new failure mechanisms for any SSC evaluated in the safety analysis report.

Based on the above, NPPD concludes that the proposed changes do not create the possibility of a new or different kind of accident to transient from any previously evaluated.

3. Do the proposed changes involve a significant reduction in the margin of safety?

No. The UHS/SW System and the REC System temperatures are input assumptions for analyzing mitigation of the design basis accidents, and are utilized to verify adequate cooling capability without quantifying system design capability limits.The ability of the SW and the REC systems to provide adequate cooling and proper mitigation of accident consequences at the proposed increased temperature have been evaluated. These evaluations have demonstrated that the proposed increased cooling water temperatures do not have a significant impact on the capability of the affected systems to perform their safety-related post-accident cooling functions and to mitigate accident consequences.

The safety margins related to containment pressure and temperature later than 10 minutes following a LOCA were shown to experience reductions with the increased SW and REC temperatures. However, both of these parameters continue to have sufficient resulting margin to the design pressure and temperature.

The operating license specifies safety limits involving reactor power level with pressure and flow below specified values, critical power ratio, water level in the reactor pressure vessel, and reactor coolant system (RCS) pressure. The SW and REC systems have safety functions that are related to cooling of various essential (safety related) components for accident mitigation. The proposed increases in the license limits for UHS and REC temperature will not have any impact on reactor power, critical power ratio, reactor vessel water level, or RCS pressure.

Based on the above NPPD concludes that the proposed changes do not involve a significant reduction in the margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the commission will not issue the amendment until the expiration of the 14-day notice period. However, should circumstances change during the notice period, such that failure to act in a timely way would result, for example, in derating or shutdown of the facility, the Commission may issue the license amendment before the expiration of the 14-day notice period, provided that its final determination is that the amendment involves no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

By July 29, 2002, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714,¹ which is available at the Commission's Public Document Room, located at One White Flint North, 11555 Rockville Pike (first floor), Rockville, Maryland, and available electronically on the Internet at the NRC Web site http://www.nrc.gov/reading-rm/doc-collections/cfr/. If a request for a hearing or petition for leave to intervene is filed by the above date, the Commission or an Atomic Safety and Licensing Board, designated by the Commission or by the Chairman of the Atomic Safety and Licensing Board Panel, will rule on the request and/or petition; and the Secretary of the designated Atomic Safety and Licensing Board will issue a notice of hearing or an appropriate order.

¹ The most recent version of Title 10 of the Code of Federal Regulations, published January 1, 2002, inadvertently omitted the last sentence of 10 CFR 2.714(d) and subparagraphs (d)(1) and (2), regarding petitions to intervene and contentions.Those provisions are extant and still applicable to petitions to intervene. Those provisions are as follows:“In all other circumstances, such ruling body or officer shall, in ruling on—

(1) A petition for leave to intervene or a request for hearing, consider the following factors, among other things:

(i) The nature of the petitioner's right under the Act to be made a party to the proceeding.

(ii) The nature and extent of the petitioner's property, financial, or other interest in the proceeding.

(iii) The possible effect of any order that may be entered in the proceeding on the petitioner's interest.

(2) The admissibility of a contention, refuse to admit a contention if:

(i) The contention and supporting material fail to satisfy the requirements of paragraph (b)(2) of this section; or

(ii) The contention, if proven, would be of no consequence in the proceeding because it would not entitle petitioner to relief.''

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If the amendment is issued before the expiration of the 30-day hearing period, the Commission will make a final determination on the issue of no significant hazards consideration. If a hearing is requested, the final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take before the issuance of any amendment.

A request for a hearing or a petition for leave to intervene must be filed with the Secretary of the Commission. U.S. Nuclear Regulatory Commission, Washington, DC 20555-0001, Attention: Rulemakings and Adjudications Staff, or may be delivered to the Commission's Public Document Room, located at One White Flint North, 11555 Rockville Pike (first floor), Rockville, Maryland, by the above date. Because of continuing disruptions in delivery of mail to United States Government offices, it is requested that petitions for leave to intervene and requests for hearing be transmitted to the Secretary of the Commission either by means of facsimile transmission to 301-415-1101 or by e-mail to hearingdocket@nrc.gov. A copy of the request for hearing and petition for leave to intervene should also be sent to the Office of the General Counsel, U.S. Nuclear Regulatory Commission, Washington, DC 20555-0001, and because of continuing disruptions in delivery of mail to United States Government offices, it is requested that copies be transmitted either by means of facsimile transmission to 301-415-3725 or by e-mail to OGCMailCenter@nrc.gov. A copy of the request for hearing and petition for leave to intervene should also be sent to John R. McPhail, General Counsel, Nebraska Public Power District, P.O. Box 499, Columbus, NE 68602-0499, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated May 20, 2002, and supplemental letter dated June 19, 2002, which are available for public inspection at the Commission's Public Document Room (PDR), located at One White Flint North, 11555 Rockville Pike (first floor), Rockville, Maryland. Publicly available records will be accessible electronically from the Agencywide Documents Access and Management System's (ADAMS) Public Electronic Reading Room on the Internet at the NRC web site http://www.nrc.gov/reading-rm/adams.html. Persons who do not have access to ADAMS or who encounter problems in accessing the document located in ADAMS, should contact the NRC PDR Reference staff by telephone at 1-800-397-4209, 301-415-4737, or by e-mail to pdr@nrc.gov.

Dated at Rockville, Maryland, this 24th day of June 2002.
Mohan C. Thadani,
Senior Project Manager, Section 1, Project Directorate IV, Division of Licensing Project Management, Office of Nuclear Reactor Regulation.

[FR Doc. 02-16339 Filed 6-27-02; 8:45 am]

BILLING CODE 7590-01-M